DEPARTMENT OF STATE

[Public Notice: 9809]

60-Day Notice of Proposed Information Collection: J-1 Visa Waiver Recommendation Application

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to June 19, 2017.

ADDRESSES: You may submit comments by any of the following methods:

• Web: Persons with access to the Internet may comment on this notice by going to www.Regulations.gov. You can search for the document by entering “Docket Number: DOS-2016-0077” in the Search field. Then click the “Comment Now” button and complete the comment form.

• Email: PRA_BurdenComments@state.gov.

• You must include the DS form number (if applicable), information collection title, and the OMB control number in any correspondence.

FOR FURTHER INFORMATION CONTACT: Direct requests for additional information regarding the collection listed in this notice, including requests for copies of the proposed collection instrument and supporting documents, to Hector Perez-Casillas, who may be reached at PRA_BurdenComments@state.gov.

SUPPLEMENTARY INFORMATION: • Title of Information Collection: J-1 Visa Waiver Recommendation Application.

• OMB Control Number: 1405-0135.

• Type of Request: Extension of a Currently Approved Collection.

• Originating Office: Bureau of Consular Affairs, Visa Office (CA/VO/L/R).

• Form Number: DS-3035.

• Respondents: J-1 visa holders applying for a waiver of the two-year foreign residence requirement.

• Estimated Number of Respondents: 7,628.

• Estimated Number of Responses: 7,628.

• Average Time per Response: 1 hour.

• Total Estimated Burden Time: 7,628 annual hours.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Form DS-3035 is used to determine the eligibility of a J-1 visa holder for a waiver of the two-year foreign residence requirement.

Methodology

Applicants will complete the DS-3035 online at travel.state.gov. Applicant's information will be downloaded into a barcode, and then be immediately issued a waiver case number and further instructions. Next, applicants must print their online form with the barcode. Please note that the barcode must be printed in black and white only. After the form is completed and printed out, applicants must mail their waiver application and fee payment to: Department of State J-1, Waiver, P.O. Box 979037, St. Louis, MO 63197-9000.

Karin King,
Acting Deputy Assistant Secretary, Bureau of Consular Affairs, Department of State.

[FR Doc. 2017-07967 Filed 4-19-17; 8:45 am]

BILLING CODE 4710-06-P